EXPORT IMPORT BANK OF THE UNITED STATES

[OMB Control No: 3048-0024 EIB 92-79]

Agency Information Collection: Emergency Submission for OMB Review

AGENCY: Export Import Bank of the United States.

ACTION: Notice (2011-0020).

SUMMARY: In compliance with the Paperwork Reduction Act (PRA) of 1995 (44 U.S.C., 3501-3521), this notice announces that the Export Import Bank of the United States (Ex-Im), will submit to the Office of Management and Budget (OMB) the following emergency proposal for the collection of information in reference to the Broker Registration Application Form EIB 92-79.

This application is used by insurance brokers to register with the Export Import Bank. The application provided the Export Import Bank staff with the information necessary to make a determination of the eligibility of the broker to receive commission payments under the Export Import Bank's credit insurance programs. The Export Import Bank is submitting this emergency submission for a six (6) month approval from OMB to provide time to revise the application and update their burden hours. The Bank will be removing the question in reference to women and/or ethnic minority owned.

After the publication of this notice in the Federal Register and Office of Management and Budget approval for the six (6) month emergency submission, the Export Import Bank will proceed with the normal approval process and publish the 60 day and 30 day public comment notices in the Federal Register.

Titles and Form Number: EIB 92-79 Broker Registration Form.

OMB Number: 3048-0024.

Type of Review: Emergency Submission.

Need and Use: This application is used by insurance brokers to register with Export Import Bank. The application provides Export Import Bank staff with the information necessary to make a determination of the eligibility of the broker to receive commission payments under Export Import Bank's credit insurance programs.

Affected Public: This form affects entities involved in the export of U.S. goods and services.

Annual Number of Respondents: 50.

Estimated Time per Respondent: 2 hours.

Government Annual Burden Hours: 200 hours.

Frequency of Reporting or Use: Once every three (3) years.

Sharon A. Whitt,
Agency Clearance Officer.

[FR Doc. 2011-3099 Filed 2-10-11; 8:45 am]

BILLING CODE 6690-01-P